DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee. This meeting is open to the public, limited only by the number of audio lines available. Online registration is required.

DATES: The meeting will be held on March 7, 2023, from 9 a.m. to 5 p.m., EST, and March 8, 2023, from 9 a.m. to 5 p.m., EST.

ADDRESSES: This is a virtual meeting. Register in advance at https://cms.zoomgov.com/webinar/register/WN__piUmNYaRjmkcYczb3ePIQ. After registering, you will receive a confirmation email containing information about joining the meeting. Further information will be provided on each of the respective web pages when it becomes available. For the Centers for Disease Control and Prevention, National Center for Health Statistics: https://www.cdc.gov/nchs/icd/icd10cm_maintenance.htm. For the Centers for Medicare & Medicaid Services, Department of Health and Human Services: https://www.cms.gov/Medicare/Coding/ICD10/C-and-M-Meeting-Materials.

FOR FURTHER INFORMATION CONTACT: Traci Ramirez, Medical Systems Specialist, National Center for Health Statistics, CDC, 3311 Toledo Road, Hyattsville, Maryland 20782-2064; Telephone: (301) 458-4454; Email: TRamirez@cdc.gov.

SUPPLEMENTARY INFORMATION:

Purpose: The ICD-10 Coordination and Maintenance (C&M) Committee is a public forum for the presentation of proposed modifications to the International Classification of Diseases, Tenth Revision, Clinical Modification (CM) and ICD-10 Procedure Coding System (PCS).

Matters To Be Considered: The tentative agenda will include discussions on the ICD-10-CM and ICD-10-PCS topics listed below. Agenda items are subject to change as priorities dictate. Please refer to the posted agenda for updates one month prior to the meeting.

ICD-10-PCS Topics

1. Administration of Elranatamab *

2. Administration of Epcoritamab *

3. Administration of Glofitamab *

4. Administration of Pafolacianine *

5. Administration of Posoleucel **

6. Administration of Quizartinib *

7. Administration of Rezafungin *

8. Administration of SER-109 *

9. Administration of Sulbactam-Durlobactam *

10. Implantation of Bioprosthetic Femoral Venous Valves

11. Rapid Antimicrobial Susceptibility Testing of Blood Cultures *

12. Dual-Chamber Leadless Cardiac Pacemaker *

13. Percutaneous Femoral-Popliteal Artery Bypass *

14. Insertion of Lengthening Device for Esophageal Atresia

15. Implantation of Extraluminal Saphenous Vein Graft Support Device During Coronary Artery Bypass Graft (CABG) *

16. Short-term External Heart Assist with Graft

17. Ultrasound Ablation of Renal Sympathetic Nerves *

18. Computer-aided Detection of Heart Failure in Echocardiography *

19. Percutaneous Mechanical Circulatory Support

20. Monitoring of Intracranial Electrical Activity for Status Epilepticus *

21. Monitoring of Intracranial Electrical Activity for Delirium *

22. Rapid Antimicrobial Susceptibility Testing System for Blood and Body Fluid Cultures *

23. Percutaneous Hepatic Perfusion with Administration of Melphalan Hydrochloride **

24. Insertion of Muscle Compartment Pressure Monitor *

25. Insertion of Tibial Extension Implant During Total Knee Arthroplasty *

26. Talar Replacement of Ankle *

27. Ankle Fusion with Truss Implant *

28. Computer-aided Triage and Notification for Measurement of Intracranial Vessel Flow *

29. Extravascular Implantable Defibrillator Leads

* Requestor has submitted a new technology add-on payment (NTAP) application for FY 2024.

** Requestor intends to submit an NTAP application for FY 2025 consideration.

Presentations for procedure code requests are conducted by both the requestor and the Centers for Medicare & Medicaid Services (CMS) during the C&M Committee meeting. Discussion from the requestor generally focuses on the clinical issues for the procedure or technology, followed by the proposed coding options from a CMS analyst. Topics presented may also include requests for new procedure codes that relate to a new technology add-on payment (NTAP) policy request.

CMS has modified the approach for presenting the new NTAP-related ICD-10-PCS procedure code requests that involve the administration of a therapeutic agent. For the March 7-8, 2023, ICD-10 C&M Committee meeting, consistent with the requirements of section 1886(d)(5)(K)(iii) of the Social Security Act, applicants submitted requests to create a unique procedure code to describe the administration of a therapeutic agent, such as the option to create a new code in Section X within the ICD-10-PCS procedure code classification. CMS will initially display only those meeting materials associated with the NTAP-related ICD-10-PCS procedure code requests that involve the administration of a therapeutic agent on the CMS website in February 2023 at: https://www.cms.gov/Medicare/Coding/ICD10/C-and-M-Meeting-Materials.

The nine NTAP-related ICD-10-PCS procedure code requests that involve the administration of a therapeutic agent are:

1. Administration of Elranatamab *

2. Administration of Epcoritamab *

3. Administration of Glofitamab *

4. Administration of Pafolacianine *

5. Administration of Posoleucel **

6. Administration of Quizartinib *

7. Administration of Rezafungin *

8. Administration of SER-109 *

9. Administration of Sulbactam-Durlobactam *

These topics will not be presented during the March 7-8, 2023, meeting. CMS will solicit public comments regarding any clinical questions or coding options included for these nine procedure code topics in advance of the meeting continuing through the end of the respective public comment periods. Members of the public should send any questions or comments to the CMS mailbox at: ICDProcedureCodeRequest@cms.hhs.gov.

CMS intends to post a question-and-answer document in advance of the meeting to address any clinical or coding questions that members of the public may have submitted. Following the conclusion of the meeting, CMS will post an updated question-and-answer document to address any additional clinical or coding questions that members of the public may have submitted during the meeting that CMS was not able to address or that were submitted after the meeting.

The NTAP-related ICD-10-PCS procedure code requests that do not involve the administration of a therapeutic agent and all non-NTAP-related procedure code requests will continue to be presented during the virtual meeting on March 7, 2023, consistent with the standard meeting process.

CMS will make all meeting materials and related documents available at: https://www.cms.gov/Medicare/Coding/ICD10/C-and-M-Meeting-Materials. Any inquiries related to the procedure code topics scheduled for the March 7-8, 2023, ICD-10 C&M Committee meeting that are under consideration for October 1, 2023, implementation should be sent to the CMS mailbox at: ICDProcedureCodeRequest@cms.hhs.gov.

ICD-10-CM Topics

1. Anal Fistula

2. Bicuspid Aortic Valve

3. Epileptic Seizures Related to External Causes, Intractable

4. Eating Disorders

5. Flank Anatomical Specificity

6. Gulf War Illness

7. Lymphoma in Remission

8. Nonionizing Radiation Sensitivity and Toxicity (NIRST)

9. Personal History of Colonic Polyps

10. Sepsis Aftercare

11. Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-01801 Filed 1-27-23; 8:45 am]

BILLING CODE 4163-18-P